DEPARTMENT OF HOMELAND SECURITY

Federal Emergency Management Agency

[Docket ID FEMA-2010-0027]

Agency Information Collection Activities: Proposed Collection; Comment Request, 1660-0037; Application Form for Single Residential Lot or Structure Amendments to National Flood Insurance Program Maps

AGENCY: Federal Emergency Management Agency, DHS.

ACTION: Notice; 60-day notice and request for comments; revision of a currently approved information collection; OMB No. 1660-0037; FEMA Form 086-0-22, Application Form for Single Residential Lot or Structure Amendments to National Flood Insurance Program Maps; FEMA Form 086-0-22A, Application Form for Single Residential Lot or Structure Amendments to National Flood Insurance Program Maps (Spanish).

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning information required by the Federal Emergency Management Agency to amend or revise National Flood Insurance Program Maps to remove certain property from the 1-percent annual chance floodplain.

DATES: Comments must be submitted on or before July 6, 2010.

ADDRESSES: To avoid duplicate submissions to the docket, please use only one of the following means to submit comments:

(1) Online. Submit comments at http://www.regulations.gov under docket ID FEMA-2010-0027. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2010-0027 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Todd Steiner, Program Specialist, Mitigation Directorate, Risk Analysis Division, FEMA at (202) 646-7097 for additional information. You may contact the Records Management Division for copies of the proposed collection of information at facsimile number (202) 646-3347 or e-mail address: FEMA-Information-Collections-Management@dhs.gov.

SUPPLEMENTARY INFORMATION: With the passage of the Flood Disaster Protection Act of 1973, an owner of a structure, with a federally backed mortgage, located in the 1-percent annual chance floodplain, was required to purchase Federal flood insurance. This was in response to the escalating damage caused by flooding and the unavailability of flood insurance from commercial insurance companies. As part of this effort, FEMA mapped the 1-percent annual chance floodplain in communities. However, due to scale limitations, individual structures that may be above the base flood cannot always be shown as being out of the 1-percent annual chance floodplain. Title 44 CFR parts 65 and 70 provide for a mechanism to request a review and also indicate the requirements necessary to apply for a reassessment of this determination. FEMA will issue a Letter of Map Amendment (LOMA) to waive the Federal requirement for flood insurance when data is submitted to show that the property or structure is at or above the elevation of the base flood.

Collection of Information

Title: Application Form for Single Residential Lot or Structure Amendments to National Flood Insurance Program Maps.

Type of Information Collection: Revision of a currently approved information collection.

OMB Number: OMB No. 1660-0037.

Form Titles and Numbers: FEMA Form 086-0-22, Application Form for Single Residential Lot or Structure Amendments to National Flood Insurance Program Maps; FEMA Form 086-0-22A, Application Form for Single Residential Lot or Structure Amendments to National Flood Insurance Program Maps (Spanish).

Abstract: FEMA Forms 086-0-22 and 086-0-22A are designed to assist respondents in gathering information that FEMA needs to determine whether a certain single-lot property or structure is likely to be flooded during a flood event that has a 1-percent annual chance of being equaled or exceeded in any given year (base flood).

Affected Public: Individuals or households; Business or other for profit institutions.

Estimated Total Annual Burden Hours: 45,060 hours.

Estimated Annualized Burden Hours and Costs
Type of respondent | Form name/form number | Number of respondents | Number of responses per respondent | Total number of responses | Avg. burden per response (in hours) | Total annual burden (in hours) | Avg. hourly wage rate | Total annual respondent cost
Homeowner | Application Form for Single Residential Lot or Structure Amendments to National Flood Insurance Program Maps/FEMA Form 086-0-22 | 16,428 | 1 | 16,428 | 1.2 | 19,714 | $21.80 | $429,765
Homeowner | Application Form for Single Residential Lot or Structure Amendments to National Flood Insurance Program Maps (Spanish)/FEMA Form 086-0-22A | 2,347 | 1 | 2,347 | 1.2 | 2,816 | 21.80 | 61,389
Subtotal |  | 18,775 |  | 18,775 |  | 22,530 |  | 491,154
Surveyor | Application Form for Single Residential Lot or Structure Amendments to National Flood Insurance Program Maps/FEMA Form 086-0-22 | 11,500 | 1 | 11,500 | 1.2 | 13,800 | 35.66 | 492,108
Surveyor | Application Form for Single Residential Lot or Structure Amendments to National Flood Insurance Program Maps (Spanish)/FEMA Form 086-0-22A | 1,643 | 1 | 1,643 | 1.2 | 1,972 | 35.66 | 70,322
Subtotal |  | 13,143 |  | 13,143 |  | 15,772 |  | 562,430
Engineer | Application Form for Single Residential Lot or Structure Amendments to National Flood Insurance Program Maps/FEMA Form 086-0-22 | 4,928 | 1 | 4,928 | 1.2 | 5,913 | 50.22 | 297,001
Engineer | Application Form for Single Residential Lot or Structure Amendments to National Flood Insurance Program Maps (Spanish)/FEMA Form 086-0-22A | 704 | 1 | 704 | 1.2 | 845 | 50.22 | 42,436
Subtotal |  | 5,632 |  | 5,632 |  | 6,758 |  | 339,437
Total |  | 18,775 |  | 32,856 |  | 45,060 |  | 1,393,021

Estimated Cost: There are no start-up, capital, operational, or maintenance costs for this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 29, 2010.
Samuel C. Smith,
Acting Director, Records Management Division, Mission Support Bureau, Federal Emergency Management Agency, Department of Homeland Security.

[FR Doc. 2010-10528 Filed 5-4-10; 8:45 am]

BILLING CODE 9110-12-P